DEPARTMENT OF TRANSPORTATION

National Highway Traffic Safety Administration

[Docket No. NHTSA-2011-0074; Notice 1]

Chrysler Group, LLC, Receipt of Petition for Decision of Inconsequential Noncompliance

AGENCY: National Highway Traffic Safety Administration, DOT.

ACTION: Receipt of Petition for Inconsequential Noncompliance.

SUMMARY: Chrysler Group, LLC, (Chrysler),¹ has determined that certain model year 2011 Chrysler Town & Country and Dodge Grand Caravan multipurpose passenger vehicles manufactured between March 16, 2011 through March 22, 2011, do not fully comply with paragraph S4.3(d) of Federal Motor Vehicle Safety Standard (FMVSS) No. 110, Tire selection and rims and motor home/recreation vehicle trailer load carrying capacity information for motor vehicles with a GVWR of 4,536 kilograms (10,000 pounds) or less. Chrysler has filed an appropriate report dated May 3, 2011, pursuant to 49 CFR Part 573, Defect and Noncompliance Responsibility and Reports.

¹ Chrysler Group, LLC (Chrysler) is a vehicle manufacturer incorporated under the laws of the state of Delaware.

Pursuant to 49 U.S.C. 30118(d) and 30120(h) (see implementing rule at 49 CFR part 556), Chrysler has petitioned for an exemption from the notification and remedy requirements of 49 U.S.C. Chapter 301 on the basis that this noncompliance is inconsequential to motor vehicle safety.

Chrysler's petition is published under 49 U.S.C. 30118 and 30120 and does not represent any agency decision or other exercise of judgment concerning the merits of the petition.

Chrysler estimates that approximately 729 model year 2011 Chrysler Town & Country and Dodge Grand Caravan multipurpose passenger vehicles manufactured between March 16, 2011 and March 22, 2011 and equipped with Yokohama size 225/65-R16 passenger car tires are affected.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the 729 ² subject vehicles that Chrysler no longer controlled at the time that it determined that a noncompliance existed in the subject vehicles.

² Chrysler's petition, which was filed under 49 CFR Part 556, requests an agency decision to exempt Chrysler as a vehicle manufacturer from the notification and recall responsibilities of 49 CFR Part 573 for 729 of the affected vehicles. However, a decision on this petition cannot relieve vehicle distributors and dealers of the prohibitions on the sale, offer for sale, introduction or delivery for introduction into interstate commerce of the noncompliant vehicles under their control after Chrysler notified them that the subject noncompliance existed.

Paragraph S4.3(d) of FMVSS No. 110 require in pertinent part:

S4.3 Placard. Each vehicle, except for a trailer or incomplete vehicle, shall show the information specified in S4.3 (a) through (g), and may show, at the manufacturer's option, the information specified in S4.3 (h) and (i), on a placard permanently affixed to the driver's side B-pillar. In each vehicle without a driver's side B-pillar* * *

(d) Tire size designation, indicated by the headings “size” or “original tire size” or “spare,” for the tires installed at the time of the first purchase for purposes other than resale. For full size spare tires, the statement “see above” may, at the manufacturer's option replace the tire size designation. If no spare tire is provided, the word “none” must replace the tire size designation”* * *

Chrysler explains that during the production of the subject vehicle models there was a temporary shortage of Kumho size 235/60R16 passenger car tires. As a result, Yokahama size 225/65R16 tires and vehicle placard were substituted. On March 16, 2011, when the Kumho tires were scheduled to be reintroduced, the vehicle placard was updated to reflect the tire change and placed on the subject vehicles. However, 729 vehicles that received the updated vehicle placard were fitted with the Yokahama tires instead of the Kumho tires. The noncompliance is that the vehicle placards incorrectly identified the tire size as required by paragraph S4.3(d) of FMVSS No. 110.

Chrysler notes that the tire inflation pressure requirement for both tires is the same and that the recommended gross vehicle weight rating (GVWR) of the vehicles is not affected by the tire change. Chrysler also notes that the tire circumference for both tires is the same and that the functions of the vehicle odometer, the tire pressure monitoring system (TPMS) and the electronic stability program (ESP) are not affected. In addition, Chrysler stated that the subject Kumho and Yokahama tires provide equivalent performance when mounted on the subject vehicles.

Chrysler also explains that while the non-compliant vehicle placards incorrectly state the tire size, they meet or exceed all other applicable Federal Motor Vehicle Safety Standards.

Chrysler argues that this noncompliance is inconsequential to motor vehicle safety because the noncompliant vehicle placards do not create an unsafe condition and all other labeling requirements have been met.

Chrysler also added that it believes that NHTSA has previously granted similar petitions.

In summation, Chrysler believes that the described noncompliance of its tires to meet the requirements of FMVSS No. 110 is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: March 16, 2012.

Authority: (49 U.S.C. 30118, 30120: delegations of authority at CFR 1.50 and 501.8)

Issued on: February 9, 2012.
Claude H. Harris,
Director, Office of Vehicle Safety Compliance.

[FR Doc. 2012-3562 Filed 2-14-12; 8:45 am]

BILLING CODE 4910-59-P